DEPARTMENT OF THE INTERIOR

National Park Service

[2253-665]

Notice of Intent To Repatriate Cultural Items: Fowler Museum at UCLA, Los Angeles, CA

AGENCY: National Park Service, Interior.

ACTION: Notice.

SUMMARY: The Fowler Museum at UCLA, in consultation with the appropriate Indian tribes, has determined that the cultural items meet the definition of unassociated funerary objects and repatriation to the Indian tribes stated below may occur if no additional claimants come forward. Representatives of any Indian tribe that believes itself to be culturally affiliated with the cultural items may contact the Fowler Museum at UCLA.

DATES: Representatives of any Indian tribe that believes it has a cultural affiliation with the cultural items should contact the Fowler Museum at UCLA at the address below by August 22, 2011.

ADDRESSES: Wendy G. Teeter, PhD, Curator of Archaeology, Fowler Museum at UCLA, Box 951549, Los Angeles, CA 90095-1549, telephone (310) 825-1864.

SUPPLEMENTARY INFORMATION: Notice is here given in accordance with the Native American Graves Protection and Repatriation Act (NAGPRA), 25 U.S.C. 3005, of the intent to repatriate cultural items in the possession of the Fowler Museum at UCLA, Los Angeles, CA, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

History and Description of the Cultural Items

In 1940, unassociated funerary objects were removed from the Van Liere Ranch Site, in Maricopa County, AZ, during excavations by J.W. Simmons. The collection was donated to the Fowler Museum at UCLA by Thomas Hinton in 1956. The 69 unassociated funerary objects are 17 clay plaques, 1 shell bead, 8 slate palettes, 1 shell, 1 ceramic sherd, 1 small ceramic bowl, 3 stone gaming pieces, 2 stone plaque fragments, 3 red clay vessels, 16 shell disc beads, 1 lead globular, 2 pieces of ochre, 4 organic fossils, and 9 awl fragments.

The Van Liere Ranch site was a burial ground with numerous Hohokam cremations and other features. This site is dated from A.D. 300—1500 based on the cultural materials found at the site, which are identified by archeologists and cultural experts as consistent with Hohokam culture. There are burial records that describe the excavation of each burial and include field and artifact photos, drawings, and site maps. Except for an infant tooth that is not associated with these funerary objects, the human remains were not removed from the ground. The unassociated funerary objects are identified based on their contextual burial designations and burial excavation notes and photos.

The Salt River Pima-Maricopa Indian Community of the Salt River Reservation, Arizona, has submitted a repatriation claim for the cultural items described in this notice, on behalf of itself and the Ak Chin Indian Community of the Maricopa (Ak Chin) Indian Reservation, Arizona; Gila River Indian Community of the Gila River Indian Reservation, Arizona; and Tohono O'odham Nation of Arizona (hereinafter referred to as “The Four Southern Tribes of Arizona”). The Four Southern Tribes of Arizona assert a “close relationship of shared group identity that can be traced both historically and prehistorically between the Four Southern Tribes of Arizona and the people that inhabited south central Arizona and the northern region of present day Mexico from time immemorial.” Therefore, The Four Southern Tribes of Arizona claim cultural affiliation to the cultural items based on geographical, archeological, linguistic, oral tradition, and historical evidence.

The Hopi Tribe “claims cultural and ancestral affiliation to all human remains, associated and unassociated funerary objects, sacred objects, and objects of cultural patrimony that were collected from Paleo-Indian, Archaic, Basketmaker, Hisatsinom (Anasazi), Mogollon, Hohokam, Sinaguan, Fremont, Mimbres, and Salado, prehistoric and historic cultures of the Southwest.”

Based on, “Zuni oral teachings and tradition, ethnohistoric documentation, historic documentation, archaeological documentation, and other evidence, the Zuni Tribe claims cultural affiliation with prehistoric cultures of the Southwestern United States that include, and are known as, Paleo Indian, Archaic, Basketmaker, Puebloan, Freemont, Anasazi, Mogollon (including Mimbres and Jornada), Hohokam, Sinagua, Western Pueblo, and Salado.”

Therefore, the oral tradition, kinship system, and archeology all indicate that The Four Southern Tribes of Arizona, Hopi Tribe of Arizona, and the Zuni Tribe of the Zuni Reservation, New Mexico, identify with the archeological Hohokam tradition. Finally, multiple lines of evidence, including treaties, Acts of Congress, and Executive Orders, indicate that the land from which the cultural items were removed is the aboriginal land of The Four Southern Tribes of Arizona, Hopi Tribe of Arizona, and the Zuni Tribe of the Zuni Reservation, New Mexico.

Determinations Made by the Fowler Museum at UCLA

Officials of the Fowler Museum at UCLA have determined that:

• Pursuant to 25 U.S.C. 3001(3)(B), the 69 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and The Four Southern Tribes of Arizona, Hopi Tribe of Arizona, and the Zuni Tribe of the Zuni Reservation, New Mexico.

Additional Requestors and Disposition

Representatives of any other Indian tribe that believes itself to be culturally affiliated with the unassociated funerary objects should contact Wendy G. Teeter, PhD, Curator of Archaeology, Fowler Museum at UCLA, Box 951549, Los Angeles, CA 90095-1549, telephone (310) 825-1864, before August 22, 2011. Repatriation of the unassociated funerary objects to the Salt River Pima-Maricopa Indian Community of the Salt River Reservation, Arizona, on behalf of The Four Southern Tribes of Arizona, may proceed after that date if no additional claimants come forward.

The Fowler Museum at UCLA is responsible for notifying The Four Southern Tribes of Arizona, Hopi Tribe of Arizona, and the Zuni Tribe of the Zuni Reservation, New Mexico, that this notice has been published.

Dated: July 14, 2011.
Sherry Hutt,
Manager, National NAGPRA Program.

[FR Doc. 2011-18357 Filed 7-20-11; 8:45 am]

BILLING CODE 4312-50-P